DEPARTMENT OF HOMELAND SECURITY

Customs and Border Protection

Entries of Antidumping and/or Countervailing Duties Destroyed September 11, 2001

AGENCY: Customs and Border Protection; Department of Homeland Security.

ACTION: General notice.

SUMMARY: The Bureau of Customs and Border Protection (CBP) suspends the liquidation of entries of merchandise subject to antidumping and/or countervailing duties (AD/CVD) until liquidation instructions are received from the Department of Commerce. Due to the extended liquidation cycle of AD/CVD entries, CBP is only now beginning to receive liquidation instructions from the Department of Commerce for many AD/CVD entries from previous years. Unfortunately, AD/CVD entry documents which were maintained by CBP at 6 World Trade Center in New York, New York, were destroyed in the terrorist attack of September 11, 2001. This notice announces that CBP is providing importers with the option to provide a reconstructed entry summary package to CBP for liquidation of these entries. Failure by the importer to provide a reconstructed entry summary package within the time frame described in this notice may result in liquidation by CBP of the entry, or entries, based upon the information available within the Automated Commercial System (ACS).

DATES: If a reconstructed entry summary package is not received by the Bureau of Customs and Border Protection within 30 days following publication by the Department of Commerce that suspension of the liquidation of the subject entry, or entries, has been lifted, and the Department of Commerce has issued final assessment instructions, CBP will begin liquidating the entries based on the information available in ACS.

ADDRESSES: The reconstructed entry package should be mailed to: Customs and Border Protection, ATTN: ADCVD 6WTC Reconstructed Entry(s), 1100 Raymond Boulevard, Newark, NJ 07102.

FOR FURTHER INFORMATION CONTACT: Christine Furgason, Office of Field Operations, (202) 344-2293. For inquiries about specific entry summary packages: Walter Springer, Supervisory Import Specialist, Newark, N.J., (973) 368-6785. Importers, or their representatives, may also directly contact the Import Specialist Teams to whom the entries were assigned. A party making a telephonic inquiry regarding a specific entry summary package should be prepared to provide its importer name and identification number.

SUPPLEMENTARY INFORMATION:

Background

U.S. Antidumping and Countervailing Duty (AD/CVD) laws are intended to counter unfair trade practices that result in injury to U.S. industry.

AD/CV investigations are typically initiated by a domestic industry or industry association, through the filing of a petition with the Department of Commerce (DOC), alleging unfair competition by foreign manufacturers or foreign countries. The DOC then investigates the allegations. If DOC makes a preliminary determination that dumping or subsidies exist, the International Trade Commission (ITC) must then make a determination as to whether an industry in the United States is materially injured or threatened with material injury, or whether the establishment of an industry (in the United States), is materially retarded by reason of the unfair competition. If final positive determinations are made, DOC orders CBP to assess AD/CV duties at rates determined by the DOC. The importer of record is responsible for paying these duties.

AD duties are appropriate where the DOC determines that a foreign firm “dumps” merchandise in the U.S. market, i.e. sells merchandise in the U.S. market at a price lower than its fair value. CV duties are appropriate when a foreign government unfairly subsidizes its industries that export to the United States. The purpose of AD/CV duties is to counteract the unfair advantages that the foreign manufacturer achieves through the dumping and/or subsidy practices.

Normally, CBP, upon instructions from the DOC, suspends the liquidation of entries of merchandise subject to additional antidumping and/or countervailing duties until the DOC instructs CPB to remove the suspension and liquidate the entries. Pursuant to title 19, Code of Federal Regulations, section 159.58 (19 CFR 159.58), CBP notifies concerned importers, consignees or their agents that liquidation of their entries has been suspended. The length of time for which an AD/CVD entry will be suspended depends, in part, on whether DOC conducts an administrative review. Also, if a decision by DOC regarding AD/CVD entries is challenged in the Court of International Trade (CIT), which happens frequently, the length of time of the suspension of liquidation may be increased dramatically. Consequently, liquidation of these types of entries may occur several years after the merchandise is originally entered and at AD/CVD rates that differ from the rate at the time of initial entry. For this reason, CBP may need to review the physical entry documents to determine the correct AD/CVD rate at liquidation. Depending upon the amount of information provided by the importer to CBP via their ABI transmission, CBP may not be able to determine various factors that are needed to assess the final margin. These factors may include the nature and amount of the merchandise, the producer of the goods, and the identity of the exporter.

Upon the completion of the various investigations and reviews, it is possible that an entry may be subject at liquidation to AD/CV duties in addition to those already assessed, may be liquidated as entered or may be liquidated at a different AD/CVD rate than previously deposited. For example, if it is finally determined that the subject merchandise was not subject to AD/CV duties, then a full refund may be in order.

Many AD/CVD entries stored at 6 World Trade Center were among those documents destroyed in the terrorist attack on September 11, 2001. The destroyed documents include those related to AD/CVD entries filed at the New York Seaport (port code 1001) and Newark/Elizabeth, N.J. (port code 4601, and sub-ports 4602, etc.). Although less likely, the destroyed documents may also include documents related to AD/CVD entries filed at JFK Airport/Jamaica/Queens NY, (port code 4701 and sub-ports 4702, etc.). Due to the extended liquidation cycle of AD/CVD entries, CBP is only now beginning to receive liquidation instructions from the DOC for these entries. Therefore, CPB is providing importers with the option to provide a reconstructed entry summary package to CBP for liquidation, when the suspension of liquidation of that importer's entry, or entries, has been lifted. Importers are provided public notice of the lifting of liquidation suspension. Any party awaiting the lifting of liquidation suspension by the DOC regarding its AD/CVD entry, or entries, should review the Federal Register on a regular basis. Any party unsure whether their entry or entries are affected by this notice, or with any other questions regarding a specific entry summary package, should call the appropriate telephone number provided in this notice or should contact the Import Specialist Team(s) to whom the entries were assigned.

Requirements; Failure To Timely Provide Reconstructed Entry Summary Package

It is in the importer's interest to provide the reconstructed entry summary package to CBP no later than 30 days following publication by the DOC that suspension of liquidation of the subject entry, or entries, has been lifted. Upon receipt of final assessment instructions from the Department of Commerce, CBP will begin the process of liquidating the entries based upon the information available (which may not be complete) within the Automated Commercial System (ACS).

Protests

As usual, CBP will consider timely protests, submitted pursuant to 19 CFR, part 174, of its liquidation of any entry or entries.

Dated: August 17, 2005.
Jayson P. Ahern,
Assistant Commissioner, Office of Field Operations.

[FR Doc. 05-17045 Filed 8-25-05; 8:45 am]

BILLING CODE 9110-06-P